DEPARTMENT OF STATE

[Public Notice 11736]

Notice of Department of State Sanctions Actions

SUMMARY: The Secretary of State has imposed sanctions on one entity and 12 individuals.

DATES: The Secretary of State's determination regarding the one entity and 12 individuals, and imposition of sanctions on the entity and individuals, identified in the SUPPLEMENTARY INFORMATION section were effective on March 11, 2022.

FOR FURTHER INFORMATION CONTACT: Anthony Musa, mussad@state.gov, Phone: (202) 647-1925.

SUPPLEMENTARY INFORMATION: Pursuant to Section 1 of E.O. 14024, all property and interests in property that are in the United States, that hereafter come within the United States, or that are or hereafter come within the possession or control of any United States person of the following persons are blocked and may not be transferred, paid, exported, withdrawn, or otherwise dealt in: (a) Any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (i) To operate or have operated in the technology sector or the defense and related materiel sector of the Russian Federation economy, or any other sector of the Russian Federation economy as may be determined by the Secretary of the Treasury, in consultation with the Secretary of State. The Secretary of the Treasury, in consultation with the Secretary of State, determined that section 1(a)(i) of E.O. 14024 shall apply to the financial services sector of the Russian Federation economy.

Pursuant to Section 1 of E.O. 14024, all property and interests in property that are in the United States, that hereafter come within the United States, or that are or hereafter come within the possession or control of any United States person of the following persons are blocked and may not be transferred, paid, exported, withdrawn, or otherwise dealt in: (a) Any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (iii) To be or have been a leader, official, senior executive officer, or member of the board of directors of: (A) The Government of the Russian Federation.

Pursuant to Section 1 of E.O. 14024, all property and interests in property that are in the United States, that hereafter come within the United States, or that are or hereafter come within the possession or control of any United States person of the following persons are blocked and may not be transferred, paid, exported, withdrawn, or otherwise dealt in: (a) Any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (iii) To be or have been a leader, official, senior executive officer, or member of the board of directors of: (C) An entity whose property and interests in property are blocked pursuant to this order.

Pursuant to Section 1 of E.O. 14024, all property and interests in property that are in the United States, that hereafter come within the United States, or that are or hereafter come within the possession or control of any United States person of the following persons are blocked and may not be transferred, paid, exported, withdrawn, or otherwise dealt in: (a) Any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (v) To be a spouse or adult child of any person whose property and interests in property are blocked pursuant to subsection (a)(ii) or (iii) of this section.

The Secretary of State has determined, pursuant to Section 1(a)(i) of E.O. 14024, that AO ABR Management is operating or has operated in the financial services sector of the Russian Federation economy.

The Secretary of State has determined, pursuant to Section 1(a)(iii)(A) of E.O. 14024, that Elena Aleksandrovna Georgieva, German Valentinovich Belous, Andrey Yurievich Sapelin, and Dmitri Nikolaevich Vavulin are or have been leaders, officials, senior executive officers, or members of the board of directors of the Government of the Russian Federation.

The Secretary of State has determined, pursuant to Section 1(a)(iii)(C) of E.O. 14024, that Yuri Valentinovich Kovalchuk, Kirill Mikhailovich Kovalchuk, Dmitri Alekseevich Lebedev, and Vladimir Nikolaevich Knyaginin are or have been leaders, officials, senior executive officers, or members of the board of directors of an entity whose property and interests in property are blocked pursuant to E.O. 14024.

The Secretary of State has determined, pursuant to Section 1(a)(v) of E.O. 14024, that Tatyana Aleksandrovna Kovalchuk, Boris Yurievich Kovalchuk, Stepan Kirillovich Kovalchuk, and Kira Valentinovna Kovalchuk are spouses or adult children of persons blocked whose property and interests in property are blocked pursuant to subsection (a)(ii) or (iii) of Section 1 of E.O. 14024.

Pursuant to E.O. 14024 these entities and individuals have been added to the Specially Designated Nationals and Blocked Persons List. All property and interests in property of these entities subject to U.S. jurisdiction are blocked.

Whitney Baird,
Principal Deputy Assistant Secretary of State, Bureau of Economic and Business Affairs, Department of State.

[FR Doc. 2022-11181 Filed 5-24-22; 8:45 am]

BILLING CODE 4710-AE-P